SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: April 1-30, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists GF Registration for projects, described below, pursuant to 18 CFR 806, Subpart E for the time period specified above.

Grandfathering Registration Under 18 CFR Part 806, Subpart E

1. Emporium Water Company—Public Water Supply System, GF Certificate No. GF-202004093, Emporium Borough and Shippen Township, Cameron County, Pa.; Salt Run; Issue Date: April 10, 2020.

2. Lonza, Inc., GF Certificate No. GF-202004094, City of Williamsport, Lycoming County, Pa.; consumptive use; Issue Date: April 28, 2020.

3. Village of Bainbridge—Public Water Supply System, GF Certificate No. GF-202004095, Town and Village of Bainbridge, Chenango County, N.Y.; Well 1; Issue Date: April 28, 2020.

4. Wyoming Valley Country Club, GF Certificate No. GF-202004096, Hanover Township, Luzerne County, Pa.; On-Site Well; Issue Date: April 28, 2020.

5. Berwick Enterprises, Inc. d.b.a. The Bridges Golf Club, GF Certificate No. GF-202004097, Berwick Township, Adams County, Pa.; Well 2; Issue Date: April 29, 2020.

6. Howard Borough—Howard Borough Water Company, GF Certificate No. GF-202004098, Howard Borough and Howard Township, Centre County, Pa.; Wells 2, 3, and 4; Issue Date: April 29, 2020.

7. New Enterprise Water Association—Public Water Supply System, GF Certificate No. GF-202004099, South Woodbury Township, Bedford County, Pa.; Clapper Well and Guyer Spring Nos. 1 and 2; Issue Date: April 29, 2020.

8. State University of New York at Binghamton—Binghamton University, GF Certificate No. GF-202004100, Town of Vestal, Broome County, N.Y.; consumptive use; Issue Date: April 29, 2020.

Dated: May 14, 2020.
Jason E. Oyler,
General Counsel and Secretary to the Commission.

[FR Doc. 2020-10757 Filed 5-18-20; 8:45 am]

BILLING CODE 7040-01-P